DEPARTMENT OF VETERANS AFFAIRS

[OMB Control No. 2900-0539]

Agency Information Collection (Application for Supplemental Service Disabled Veterans Insurance) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden and includes the actual data collection instrument.

DATES: Comments must be submitted on or before October 24, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0539” in any correspondence.

FOR FURTHER INFORMATION CONTACT: Crystal Rennie, Records Management Service (005R1B), Department of Veterans Affairs, 810 Vermont Avenue NW., Washington, DC 20420, (202) 632-7492 or email crystal.rennie@va.gov. Please refer to “OMB Control No. 2900-0539.”

SUPPLEMENTARY INFORMATION: Title: Application for Supplemental Service Disabled Veterans Insurance (SRH), VA Form 29-0188 and 29-0189, and Application for Supplemental Service Disabled Veterans (RH) Life Insurance, VA Form 29-0190.

OMB Control Number: 2900-0539.

Type of Review: Extension of a currently approved collection.

Abstract: VA Forms 29-0188, 29-0189 and 29-0190 are completed by Veterans applying for Supplemental Service Disabled Veterans Insurance. VA uses the information collected to establish Veterans' eligibility for insurance coverage.

An agency may not conduct or sponsor, and a person is not required to respond to a collection of information unless it displays a currently valid OMB control number. The Federal Register Notice with a 60-day comment period soliciting comments on this collection of information was published on July 19, 2013, at page 36830.

Affected Public: Individuals or households.

Estimated Annual Burden: 3,333 hours.

Estimated Average Burden per Respondent: 20 minutes.

Frequency of Response: On occasion.

Estimated Number of Respondents: 10,000.

Dated: September 19, 2013.
By direction of the Secretary:
Crystal Rennie,
VA Clearance Officer, U.S. Department of Veterans Affairs.

[FR Doc. 2013-23206 Filed 9-23-13; 8:45 am]

BILLING CODE 8320-01-P